DEPARTMENT OF THE INTERIOR

National Park Service

[NPS-WASO-NAGPRA-NPS0025406; PPWOCRADN0-PCU00RP14.R50000]

Notice of Inventory Completion: Nebraska State Historical Society, Lincoln, NE

AGENCY: National Park Service, Interior.

ACTION: Notice.

SUMMARY: The Nebraska State Historical Society (NSHS) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the NSHS. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the NSHS at the address in this notice by May 31, 2018.

ADDRESSES: Rob Bozell, Nebraska State Historical Society, P.O. Box 82554, Lincoln, NE 68501, telephone (402) 525-1624, email rob.bozell@nebraska.gov.

SUPPLEMENTARY INFORMATION: Notice is here given in accordance with the Native American Graves Protection and Repatriation Act (NAGPRA), 25 U.S.C. 3003, of the completion of an inventory of human remains and associated funerary objects under the control of the NSHS. The human remains and associated funerary objects were removed from Sarpy County, NE.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the NSHS professional staff in consultation with representatives of the Omaha Tribe of Nebraska.

History and Description of the Remains

In 1954, human remains representing, at minimum, one individual were removed from archeological site 25SY15 in Sarpy County, NE. In 1883, one or more burials reported to be affiliated with Chief Big Elk and the Omaha Tribe of Nebraska were uncovered during construction of Bellevue College and reburied on campus. In June 1954, during construction work on the campus, the reburied remains were removed, and were reinterred in Bellevue Cemetery; members of the Omaha Tribe of Nebraska and a chaplain from nearby Offut Air Force Base officiated. The NSHS was involved in the 1954 exhumation, during which it collected several human bone fragments and a sample of associated funerary objects. These human remains and funerary objects have been curated at the NSHS. The age and sex of the individual are indeterminate. No known individual was identified. The 47 associated funerary objects are one spoon, one knife with bone handle, one pair scissors, three brass ornaments, one brass bracelet, one brass fragment, one whetstone, two copper ear bobs, one military button, one box of fabric, six kettle fragments, five knife blade fragments, 13 metal fragments, four mussel shells, two spoon fragments, one metal strainer, two wood fragments, and one mammal canine tooth.

The associated funerary objects are consistent with assemblages found in 19th century Native America interments. All archival information appears to indicate that interments containing such assemblages of funerary objects are culturally affiliated with the Omaha Tribe of Nebraska. However, the small sample of human remains and associated funerary objects collected precludes a specific association with Chief Big Elk.

Determinations Made by the NSHS

Officials of the NSHS have determined that:

• Pursuant to 25 U.S.C. 3001(9), the human remains described in this notice represent the physical remains of one individual of Native American ancestry.

• Pursuant to 25 U.S.C. 3001(3)(A), the 47 objects described in this notice are reasonably believed to have been placed with or near individual human remains at the time of death or later as part of the death rite or ceremony.

• Pursuant to 25 U.S.C. 3001(2), there is a relationship of shared group identity that can be reasonably traced between the Native American human remains and associated funerary objects and the Omaha Tribe of Nebraska.

Additional Requestors and Disposition

Lineal descendants or representatives of any Indian Tribe or Native Hawaiian organization not identified in this notice that wish to request transfer of control of these human remains and associated funerary objects should submit a written request with information in support of the request to Rob Bozell, Nebraska State Historical Society, P.O. Box 82554, Lincoln, NE 68501, telephone (402) 525-1624, email rob.bozell@nebraska.gov, by May 31, 2018. After that date, if no additional requestors have come forward, transfer of control of the human remains and associated funerary objects to the Omaha Tribe of Nebraska may proceed.

The NSHS is responsible for notifying the Omaha Tribe of Nebraska that this notice has been published.

Dated: April 10, 2018.
Melanie O'Brien,
Manager, National NAGPRA Program.

[FR Doc. 2018-09175 Filed 4-30-18; 8:45 am]

BILLING CODE 431-52-P